DEPARTMENT OF ENERGY

Federal Energy Regulatory Commission

Combined Notice of Filings

Take notice that the Commission has received the following Part 284 Natural Gas Pipeline Rate filings:

Filings Instituting Proceedings

Docket Numbers: PR14-23-000.

Applicants: Kansas Gas Service, A Division of ONE Gas, Inc.

Description: Tariff filing per 284.123(b), (e): Amendment to Pending Revision of Statement of Operating Conditions to be effective 2/19/2014; TOFC: 1270.

Filed Date: 3/7/14.

Accession Number: 20140307-5220.

Comments Due: 5 p.m. ET 3/21/14.

284.123(g) Protests Due: 5 p.m. ET 4/21/14.

Docket Numbers: PR14-32-000.

Applicants: American Midstream (Louisiana Intrastate), LLC.

Description: Tariff filing per 284.123(b)(2) + : Rate Petition to be effective 5/6/2014; TOFC: 1310.

Filed Date: 3/7/14.

Accession Number: 20140307-5143.

Comments Due: 5 p.m. ET 3/28/14.

284.123(g) Protests Due: 5 p.m. ET 5/6/14.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 12, 2014.
Nathaniel J. Davis, Sr.,
Deputy Secretary.

[FR Doc. 2014-06088 Filed 3-19-14; 8:45 am]

BILLING CODE 6717-01-P